DEPARTMENT OF ENERGY

Federal Energy Regulatory Commission

Notice of Competing Preliminary Permit Applications Accepted for Filing and Soliciting Comments, Motions To Intervene, and Competing Applications

January 29, 2010.

Brookfield Power United States Generation Development, LLC | Project No. 13077-000.
Robertson Energy Group, LLC | Project No. 13081-000.

Brookfield Power United States Generation Development, LLC (Brookfield Power) and Robertson Energy Group, LLC (Robertson Energy) filed preliminary permit applications, pursuant to section 4(f) of the Federal Power Act, proposing to study the feasibility of the George W. Andrews Hydroelectric Project located at the existing George W. Andrews Lock and Dam on the Chattahoochee River, Early County, Georgia, and Huston County, Alabama, near the town of Columbia, Alabama. The projects would occupy federal lands under the jurisdiction of the U. S. Army Corps of Engineers. The sole purpose of a preliminary permit, if issued, is to grant the permit holder priority to file a license application during the permit term. A preliminary permit does not authorize the permit holder to perform any land disturbing activities or otherwise enter upon lands or waters owned by others without the owners' express permission.

The proposed Projects description:

The proposed George W. Andrews Lock and Dam Hydroelectric Project by Brookfield Power (Project No. 13077-000, filed on November 16, 2007), would be built on the Alabama side and would consist of: (1) A new powerhouse containing four new pit turbine-generators each rated at 6 MW for a total combined plant capacity of 24 MW; (2) an intake channel and a tailrace channel; (3) an approximately ten miles long transmission line connecting the powerhouse to an existing substation; and (4) appurtenant facilities. The proposed project would have an average annual generation of 89 gigawatt-hours.

The proposed George W. Andrews Hydroelectric Project by Robertson Energy (Project No. 13081-000, filed on November 21, 2007), would be built on the Alabama side and would consist of: (1) A new powerhouse containing four new turbine-generators each rated at 4 MW for a total combined plant capacity of 16 MW; (2) an intake channel and a tailrace channel; (3) an approximately ten miles long transmission line connecting the powerhouse to an existing substation; and (4) appurtenant facilities. The proposed project would have an average annual generation of 75 gigawatt-hours.

Applicants Contact: For Brookfield Power: Mr. Jeffrey M. Auser, P.E., BPUS Generation Development LLC, 225 Greenfield Parkway, Suite 201, Liverpool, NY 13088, telephone: (315) 413-2821. For Robertson Energy: Mr. James R. Robertson, 5702 Reno Court, Boonsboro, MD 21713, telephone: (301) 432-7882.

FERC Contact: Sergiu Serban, (202) 502-6211.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13077-000, or 13081-000) in the docket number field to access the document. For assistance, contact FERC Online Support.

Kimberly D. Bose,
Secretary.

[FR Doc. 2010-2485 Filed 2-4-10; 8:45 am]

BILLING CODE 6717-01-P